DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed collections of information in accordance with the Paperwork Reduction Act of 1995 (PRA95) (44 U.S.C. 3506(c)(2)(A)). This program helps to ensure that requested data can be provided in the desired format, reporting burden (time and financial resources) is minimized, collection instruments are clearly understood, and the impact of the collection requirements on respondents can be properly assessed. Currently, the Employment and Training Administration is soliciting comments concerning the proposed new collection of data on practices related to the substate allocation of funds allotted to states under the Workforce Investment Act (WIA).

A copy of the proposed survey can be obtained by contacting the office listed below in the ADDRESSES section of this notice.

DATES: Written comments must be submitted to the office listed in the ADDRESSES section below on or before June 4, 2002.

ADDRESSES: Alberta F. Baker, U.S. Department of Labor, Employment and Training Administration/Office of Policy and Research, 200 Constitution Avenue, NW., Room N-5629, Washington, DC 20210, (202) 693-3642 (this is not a toll-free number), ABAKER@doleta.gov.

SUPPLEMENTARY INFORMATION:

I. Background

The data obtained from this survey will provide information on the allocation strategies used by states, the extent to which they relay exclusively on factors identified explicitly by WIA, and the extent to which they have plans to alter their allocation strategies in future years. Collection of this information is necessary for ETA to fulfill the requirements of WIA 171(c)(2)(B) for a study concerning improvements in the WIA allocation formula. There are two principal goals of the data collection: (1) To provide a national snapshot of the different allocation strategies states have adopted or are considering adopting, and (2) to identify alternative mechanisms by which states might consider allocating funds, which can then be incorporated into quantitative models estimating how allocations differ as a result of these alternative strategies.

Under the WIA, funds for both the adult and youth programs are to be allocated primarily using formulas specified in the Act itself. These formulas are very similar to those used in the Job Training Partnership Act (JTPA), which WIA replaces. Under WIA, however, states can allocate up to thirty percent of their adult and youth funding using alternative criteria than those specified in the Act. Thus, although many states continue to allocate criteria, obtaining results that differ, perhaps markedly, from those they would have received under JTPA. Examining these alternative strategies may provide lessons about the impact of allocation on the organizational and financial stability of local workforce investment boards, and, states' ability to provide financial resources that target the individuals that Congress intended the Act to serve. States experience with alternative formulas may also provide insights which may be used to improve the formulas for allotments to states.

II. Review Focus

The Department of Labor is particularly interested in comments which: (a) Enhance the utility, quality and clarity of the information to be collected; (b) minimize the burden of the collection of information on those who are to respond, including through the use of appropriate automated, electronic, mechanical, or other technological collection techniques or other forms of information technology; and (c) evaluate the accuracy of the agency's estimate of the burden of the proposed collection of information.

III. Current Actions

DOL is seeking Office of Management and Budget (OMB) Approval to collect data on the allocation strategies used by states, the extent to which they relay exclusively on factors identified explicitly by WIA, and the extent to which they have plans to alter their allocation strategies in future years. There are two principal goals of the data collection: (1) To provide a national snapshot of the different allocation strategies states have adopted or are considering adopting, and (2) to identify alternative mechanisms by which states might consider allocating funds, which can then be incorporated into quantitative models estimating how allocations differ as a result of these alternative strategies.

Type of Review: New.

Agency: Employment and Training Administration.

Title: Study of the WIA Allocation Formula.

OMB No: 1205-0NEW.

Affected Public: State, Local, or Tribal Government.

Total Respondents: 52.

Frequency: Once.

Total Responses: 52.

Average Time per Response: 60 minutes.

Estimated Total Burden Hours: 52.

Total Burden Cost (assuming $30/hour staff time): $1,560.

Comments submitted in response to this comment request will be summarized and/or included in the request for OMB approval of the information collection request; they will also become a matter of public record.

Dated: April 1, 2002.
Gerard F. Fiala,
Administrator.

[FR Doc. 02-8265 Filed 4-4-02; 8:45 am]

BILLING CODE 4510-30-M